DEPARTMENT OF ENERGY

Federal Energy Regulatory Commission

Combined Notice of Filings

Take notice that the Commission has received the following Natural Gas Pipeline Rate and Refund Report filings:

Filings Instituting Proceedings

Docket Numbers: CP18-6-001.

Applicants: RH energytrans, LLC.

Description: Abbreviated Application for Limited Amendment of Certificate of Public Convenience and Necessity.

Filed Date: 4/10/19.

Accession Number: 20190410-5162.

Comments Due: 5 p.m. ET 5/1/19.

Docket Numbers: RP19-1117-000.

Applicants: Colorado Interstate Gas Company, L.L.C.

Description: § 4(d) Rate Filing: Non-Conforming Negotiated Rate (DCP 33761 ISD Apr 19) to be effective 4/12/2019.

Filed Date: 4/10/19.

Accession Number: 20190410-5015.

Comments Due: 5 p.m. ET 4/22/19.

Docket Numbers: RP19-1118-000.

Applicants: Colorado Interstate Gas Company, L.L.C.

Description: § 4(d) Rate Filing: Non-Conforming Agreements Update Filing (BHSC) to be effective 4/1/2019.

Filed Date: 4/10/19.

Accession Number: 20190410-5040.

Comments Due: 5 p.m. ET 4/22/19.

Docket Numbers: RP19-1119-000.

Applicants: Texas Eastern Transmission, LP.

Description: § 4(d) Rate Filing: Negotiated Rate—Amended EAP Ohio 911572 eff 4-9-19 to be effective 4/9/2019.

Filed Date: 4/10/19.

Accession Number: 20190410-5046.

Comments Due: 5 p.m. ET 4/22/19.

Docket Numbers: RP19-1120-000.

Applicants: El Paso Natural Gas Company, L.L.C.

Description: § 4(d) Rate Filing: Non-Conforming Negotiated Rate Agreement Update Filing (Conoco Apr 19 Redes) to be effective 4/11/2019.

Filed Date: 4/10/19.

Accession Number: 20190410-5068.

Comments Due: 5 p.m. ET 4/22/19.

Docket Numbers: RP19-1121-000.

Applicants: Iroquois Gas Transmission System, L.P.

Description: § 4(d) Rate Filing: 041519 Negotiated Rates—Mercuria Energy America, Inc. R-7540-18 to be effective 4/15/2019.

Filed Date: 4/10/19.

Accession Number: 20190410-5125.

Comments Due: 5 p.m. ET 4/22/19.

Docket Numbers: RP19-769-001.

Applicants: ANR Pipeline Company.

Description: Compliance filing Compliance to RP19-769-000 to be effective 4/1/2019.

Filed Date: 4/10/19.

Accession Number: 20190410-5018.

Comments Due: 5 p.m. ET 4/22/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 11, 2019.
Nathaniel J. Davis, Sr.,
Deputy Secretary.

[FR Doc. 2019-07720 Filed 4-16-19; 8:45 am]

BILLING CODE 6717-01-P